DEPARTMENT OF TRANSPORTATION

Federal Aviation Administration

Notice of Intent To Rule on Application To Impose and Use the Revenue From a Passenger Facility Charge (PFC) at Orlando-Sanford, Sanford, Florida

AGENCY: Federal Aviation Administration (FAA), DOT.

ACTION: Notice of intent to rule on application.

SUMMARY: The FAA proposes to rule and invites public comment on the application to impose and use the revenue from a PFC at Orlando-Sanford International Airport under the provisions of the Aviation Safety and Capacity Expansion Act of 1990 (Title IX of the Omnibus Budget Reconciliation Act of 1990) (Pub. L. 101-508) and Part 158 of the Federal Aviation Regulations (14 CFR Part 158).

DATES: Comments must be received on or before October 2, 2000.

ADDRESSES: Comments on this application may be mailed or delivered in triplicate to the FAA at the following address: Orlando Airports District Office, 5950 Hazeltine National Drive; Suite 400; Orlando, Florida 32822.

In addition, one copy of any comments submitted to the FAA must be mailed or delivered to Mr. Victor D. White, AAE, Executive Director of the Sanford Airport Authority at the following address: Sanford Airport Authority, One Red Cleveland Blvd., Suite 200, Sanford, Florida 32773.

Air carriers and foreign air carriers may submit copies of written comments previously provided to the Sanford Airport Authority under section 158.23 of Part 158.

FOR FURTHER INFORMATION CONTACT: Armando L. Rovira, Program Manager, Orlando Airports District Office, 5950 Hazeltine National Drive; Suite 400; Orlando, Florida 32822, (407) 812-6331 X-31. The application may be reviewed in person at this same location.

SUPPLEMENTARY INFORMATION: The FAA proposes to rule and invites public comment on the application to impose and use the revenue from a PFC at Orlando-Sanford International Airport under the provisions of the Aviation Safety and Capacity Expansion Act of 1990 (Title IX of the Omnibus Budget Reconciliation Act of 1990) (Pub. L. 101-508) and Part 158 of the Federal Aviation Regulations (14 CFR Part 158).

On August 25, 2000, the FAA determined that the application to impose and use the revenue from a PFC submitted by Sanford Airport Authority was substantially complete within the requirements of section 158.25 of Part 158. The FAA will approve or disapprove the application, in whole or in part, no later than November 30, 2000.

The following is a brief overview of the application.

PFC Application No.: PFC 00-01-C-00-SFB.

Level of the proposed PFC: $1.00.

Proposed charge effective date: January 1, 2001.

Proposed charge expiration date: December 31, 2026.

Total estimated net PFC revenue: $14,146,000.

Brief description of proposed project(s):

Completed Projects

1. Runway 9R-27L and Taxiways B & C

2. Airfield Signage

3. Airport Master Plan Updated/Update 3DAAP/FAR Part 150/EA for Airport Access Road

4. Construct Runway 9L-27R Declared Distance Enhancement/Construct Access Road Phase

5. Construct Terminal Access Road Including Property Acquisition

6. Parking Transition to West Overflow Lot

7. Construct ARFF Station

8. ARFF Vehicles

9. Acquire Land and Construct Replacement Runway 9R-27L

10. Taxiway B West Extension

11. North Side Access Road

12. Airport Master Development Plan

13. Taxiway Fillets

14. FAR 107 Security System

15. Taxiways B & C Rehabilitation

New Projects

1. Taxiway A-4 Construction

2. Taxiway A

3. Relocate PAPI to Runway 9R-27L

4. Electrical Feed Loop to Terminal, ATCT & Airfield

5. Domestic Terminal Expansion

6. FAR 150 Noise Study

7. Construct Taxiway Sierra, Connectors and Lights (MITL)

8. Rehabilitate Aviation Ramps

9. Reconstruct Taxiways B, C & K

10. Runway 9R-27L Lights (MIRL)

11. ILS/MALSR

12. Airport Master Plan

13. ADA Lift Device

14. Terminal Ramp Area Reconstruction

Class or classes of air carriers which the public agency has requested not be required to collect PFCs: N/A.

Any person may inspect the application in person at the FAA office listed above under FOR FURTHER INFORMATION CONTACT.

In addition, any person may, upon request, inspect the application, notice and other documents germane to the application in person at the Sanford Airport Authority.

Issued in Orlando, Florida on August 25, 2000.
John W. Reynolds, Jr.,
Acting Manager, Orlando Airports District Office, Southern Region.

[FR Doc. 00-22365 Filed 8-30-00; 8:45 am]

BILLING CODE 4910-13-M